DEPARTMENT OF STATE

[Public Notice 8268]

Persons on Whom Sanctions Have Been Imposed Under the Iran Sanctions Act of 1996 and the Iran Threat Reduction and Syria Human Rights Act of 2012

AGENCY: Bureau of Economic and Business Affairs, Department of State.

ACTION: Notice.

SUMMARY: The Secretary of State has determined, pursuant to authority delegated by Presidential Memorandum of October 9, 2012 (the “Delegation Memorandum”), that the following persons have engaged in sanctionable activity described in section 5(a)(8) of the Iran Sanctions Act of 1996 (Public Law 104-172) (50 U.S.C. 1701 note) (“ISA”), as amended, and that certain sanctions are imposed as a result: Dimitris Cambis and Impire Shipping.

The Secretary of State has determined, pursuant to authority delegated by Presidential Memorandum of October 9, 2012 (the “Delegation Memorandum”), that the following persons have engaged in sanctionable activity described in section 212 of the Iran Threat Reduction and Syria Human Rights Act of 2012 (Pub. L. 112-158) (“TRA”), and that certain sanctions are imposed as a result: Kish P&I and Bimeh Markazi-Central Insurance of Iran.

DATES: Effective Date: The sanctions on Dimitris Cambis, Impire Shipping, Kish P&I, and Bimeh Markzai-Central Insurance of Iran are effective March 14, 2013.

FOR FURTHER INFORMATION CONTACT: On general issues: Office of Sanctions Policy and Implementation, Department of State, Telephone: (202) 647-7489.

For U.S. Government procurement ban issues: Daniel Walt, Office of the Procurement Executive, Department of State, Telephone: (703) 516-1696.

SUPPLEMENTARY INFORMATION: Pursuant to section 5(a)(8) of the ISA and the Delegation Memorandum, the Secretary determined that the following sanctions as described in section 6 of the ISA are to be imposed on Dimitris Cambis:

1. Procurement sanction. The United States Government shall not procure, or enter into any contract for the procurement of, and goods or services from Dimitris Cambis.

2. Export-Import Bank assistance for exports. The Export-Import Bank of the United States shall not give approval to the issuance of any guarantee, insurance, extension of credit, or participation in the extension of credit in connection with the export of any goods or services to Dimitris Cambis.

3. Banking transactions. Any transfers of credit or payments between financial institutions or by, through, or to any financial institution, to the extent that such transfers or payments are subject to the jurisdiction of the United States and involve any interest of Dimitris Cambis, shall be prohibited.

4. Property transactions. It shall be prohibited to:

a. Acquire, hold, withhold, use, transfer, withdraw, transport, import, or export any property that is subject to the jurisdiction of the United States and with respect to which Dimitris Cambis has any interest;

b. Deal in or exercise any right, power, or privilege with respect to such property; or

c. Conduct any transactions involving such property.

5. Foreign Exchange. Any transactions in foreign exchange that are subject to the jurisdiction of the United States and in which Dimitris Cambis has any interest, shall be prohibited.

Pursuant to section 5(a)(8) of the ISA and the Delegation Memorandum, the Secretary determined that the following sanctions as described in section 6 of the ISA are to be imposed on Impire Shipping:

1. Procurement sanction. The United States Government shall not procure, or enter into any contract for the procurement of, and goods or services from Impire Shipping.

2. Export-Import Bank assistance for exports. The Export-Import Bank of the United States shall not give approval to the issuance of any guarantee, insurance, extension of credit, or participation in the extension of credit in connection with the export of any goods or services to Impire Shipping.

3. Banking transactions. Any transfers of credit or payments between financial institutions or by, through, or to any financial institution, to the extent that such transfers or payments are subject to the jurisdiction of the United States and involve any interest of Impire Shipping, shall be prohibited.

4. Property transactions. It shall be prohibited to:

a. Acquire, hold, withhold, use, transfer, withdraw, transport, import, or export any property that is subject to the jurisdiction of the United States and with respect to which Impire Shipping has any interest;

b. Deal in or exercise any right, power, or privilege with respect to such property; or

c. Conduct any transactions involving such property.

5. Exclusion of corporate officers. The Secretary of State shall deny a visa to, and the Secretary of Homeland Security shall exclude from the from the United States, the following corporate officers of Impire Shipping:

a. Dimitris Cambis

Pursuant to section 212 of the TRA and the Delegation Memorandum, the Secretary determined that the following sanctions as described in section 6 of the ISA are to be imposed on Kish P&I:

1. Procurement sanction. The United States Government shall not procure, or enter into any contract for the procurement of, and goods or services from Kish P&I.

2. Export-Import Bank assistance for exports. The Export-Import Bank of the United States shall not give approval to the issuance of any guarantee, insurance, extension of credit, or participation in the extension of credit in connection with the export of any goods or services to Kish P&I.

3. Banking transactions. Any transfers of credit or payments between financial institutions or by, through, or to any financial institution, to the extent that such transfers or payments are subject to the jurisdiction of the United States and involve any interest of Kish P&I, shall be prohibited.

4. Property transactions. It shall be prohibited to:

a. Acquire, hold, withhold, use, transfer, withdraw, transport, import, or export any property that is subject to the jurisdiction of the United States and with respect to which Kish P&I has any interest;

b. Deal in or exercise any right, power, or privilege with respect to such property; or

c. Conduct any transactions involving such property.

5. Exclusion of corporate officers. The Secretary of State shall deny a visa to, and the Secretary of Homeland Security shall exclude from the from the United States, the following corporate officers of Kish P&I:

a. Mohammad Reza Mohammadi Banaei

Pursuant to section 212 of the TRA and the Delegation Memorandum, the Secretary determined that the following sanctions as described in section 6 of the ISA are to be imposed on Bimeh Markazi-Central Insurance of Iran:

1. Procurement sanction. The United States Government shall not procure, or enter into any contract for the procurement of, and goods or services from Bimeh Markazi-Central Insurance of Iran.

2. Export-Import Bank assistance for exports. The Export-Import Bank of the United States shall not give approval to the issuance of any guarantee, insurance, extension of credit, or participation in the extension of credit in connection with the export of any goods or services to Bimeh Markazi-Central Insurance of Iran.

3. Banking transactions. Any transfers of credit or payments between financial institutions or by, through, or to any financial institution, to the extent that such transfers or payments are subject to the jurisdiction of the United States and involve any interest of Bimeh Markazi-Central Insurance of Iran, shall be prohibited.

4. Property transactions. It shall be prohibited to:

a. Acquire, hold, withhold, use, transfer, withdraw, transport, import, or export any property that is subject to the jurisdiction of the United States and with respect to which Bimeh Markazi-Central Insurance of Iran has any interest;

b. Deal in or exercise any right, power, or privilege with respect to such property; or

c. Conduct any transactions involving such property.

5. Exclusion of corporate officers. The Secretary of State shall deny a visa to, and the Secretary of Homeland Security shall exclude from the from the United States, the following corporate officers of Bimeh Markazi-Central Insurance of Iran:

a. Seyed Mohammad Karimi

b. Rahim Mosaddegh

c. Mina Sadigh Noohi

d. Seyed Morteza Hasani Aghda

e. Esmaeil Mahdavi Nia

The sanctions described above with respect to Dimitris Cambis, Impire Shipping, Kish P&I, and Bimeh Markazi-Central Insurance of Iran shall remain in effect until otherwise directed pursuant to the provisions of the ISA, TRA or other applicable authority. Pursuant to the authority delegated to the Secretary of State in the Delegation Memorandum, relevant agencies and instrumentalities of the United States Government shall take all appropriate measures within their authority to carry out the provisions of this notice. The Secretary of the Treasury is taking appropriate action to implement the sanctions for which authority has been delegated to the Secretary of the Treasury pursuant to the Delegation Memorandum and Executive Order 13574 of May 23, 2011.

The following constitutes a current list, as of this date, of persons on whom ISA sanctions have been imposed. The particular sanctions imposed on an individual person are identified in the relevant Federal Register Notice.

—Allvale Maritime Inc. (see Public Notice 7585, 76 FR 56866, September 14, 2011)

—Associated Shipbroking (a.k.a. SAM) (see Public Notice 7585, 76 FR 56866, September 14, 2011)

—Belarusneft (see Public Notice 7408, 76 FR 18821, April 5, 2011)

—Bimeh Markazi-Central Insurance of Iran

—Cambis, Dimitris

—FAL Oil Company Limited (see Public Notice 7776, 77 FR 4389, Jan. 27, 2012)

—Impire Shipping

—Kish Protection and Indemnity (a.k.a. Kish P&I)

—Kuo Oil (S) Pte. Ltd. (see Public Notice 7776, 77 FR 4389, Jan. 27, 2012)

—Naftiran Intertrade Company (see Public Notice 7197, 75 FR 62916, Oct. 13, 2010)

—Petrochemical Commercial Company International (a.k.a. PCCI) (see Public Notice 7585, 76 FR 56866, September 14, 2011)

—Petro´leos de Venezuela S.A. (see Public Notice 7585, 76 FR 56866, September 14, 2011)

—Royal Oyster Group (see Public Notice 7585, 76 FR 56866, September 14, 2011)

—Socie´te´ Anonyme Mone´gasque D'Administration Maritime Et Ae´rienne (a.k.a. S.A.M.A.M.A., a.k.a. SAMAMA) (see Public Notice 7585, 76 FR 56866, September 14, 2011)

—Speedy Ship (a.k.a. SPD) (see Public Notice 7585, 76 FR 56866, September 14, 2011)

—Sytrol (see Public Notice 8040, 77 FR 59034, September 18, 2012)

—Tanker Pacific Management (Singapore) Pte. Ltd. (see Public Notice 7585, 76 FR 56866, September 14, 2011)

—Zhuhai Zhenrong Company (see Public Notice 7776, 77 FR 4389, Jan. 27, 2012)

Dated: April 2, 2013.
Jose W. Fernandez,
Assistant Secretary of State for Economic and Business Affairs.

[FR Doc. 2013-08229 Filed 4-8-13; 8:45 am]

BILLING CODE 4710-05-P